POSTAL SERVICE

39 CFR Part 111

Simplified Address Format for Letter-Size and Flat-Size Standard Mail and Periodicals

AGENCY: Postal Service.

ACTION: Final rule.

SUMMARY: This final rule amends some of the standards and identification procedures for Standard Mail and Periodicals letter-size and flat-size mail using the simplified address format as provided in Domestic Mail Manual (DMM) A040. The new requirements will improve the processing and distribution of such mail and will also clarify and expand the standards for identifying this mail that does not bear a specific delivery address.

EFFECTIVE DATE: January 1, 2003.

FOR FURTHER INFORMATION CONTACT: O.B. Akinwole, (703) 292-3643.

SUPPLEMENTARY INFORMATION: On August 22, 2002, the Postal Service published for public comment in the Federal Register a proposed rule (FR 67 54397-54399) that expanded provisions for mailers using the simplified address format. The Postal Service also invited comments on the proposed rule from interested parties and accepted comments until September 23, 2002. No comments were received during the comment period. This final rule contains the DMM standards adopted by the Postal Service after the comment period ended.

Some mailers elect to use the simplified form of address for their mass mailings. Simplified address is an alternate-addressing format that allows mailers to prepare mailpieces without using individual names and addresses within very specific requirements. Instead of using individual addresses, the mailpieces are simply addressed as “Postal Customer” (or a similar designation as permitted). Eligibility to use the simplified address format is determined by the type of route selected for distribution, and in some instances by the type of mailer, as follows:

• Rural Routes, Highway Contract Routes, and Post Office Boxes. Any mailer may use simplified address format for the distribution of mail to rural routes, highway contract routes, and Post Office boxes at offices without city carrier service. Distribution of such mail is made to each boxholder on a rural route or highway contract route, each family on a rural route or highway contract route (at any Post Office), or all Post Office boxholders at a Post Office without city carrier service.

• City Routes and Post Office Boxes. Only certain authorized governmental entities may use the simplified address format for the distribution of mail to city routes or to Post Office boxes at Post Offices with city carrier service. Authorized governmental entities include U. S. Congress and Federal Government agencies or state, county, or municipal governments, and the governments of the District of Colombia, the Commonwealth of Puerto Rico, and any U.S. territory or possession listed in Domestic Mail Manual (DMM) G010. Distribution of such mail must be made to each stop or possible delivery on city carrier routes, or to each Post Office box at Post Offices with city carrier service.

Domestic Mail Manual (DMM) A040 is revised to clarify the preparation requirements for letters and flats that use the simplified address format. Additionally, all congressional mailings using the simplified address format will use PS Tag 11, Congressional Mail, “Postmaster—Open and Distribute” on all containers to ensure appropriate handling through downstream postal processes. This tag, which will help identify congressional mail as it moves through the mailstream, will be firmly attached to the mailing container.

This revision is a result of recommendations and suggestions from mailers and Postal Service personnel and will ensure that customer expectations for accurate processing and timely delivery are met. This will be achieved by clarifying and reinforcing procedures that will increase the identification of containers used in preparation of this type of mail. The Postal Service and mailers who use this mail format believe that clarifying and reinforcing the preparation and container labeling requirements will enable more accurate processing of the mail. It will also help maintain the integrity of mail using the simplified address format and prevent potential service breakdowns that may occur when such mail is inadvertently separated from the container identifying its destination as a result of inadequate preparation and container labeling. These discrepancies can cause unnecessary delays during postal handling and may increase postal processing costs.

The Domestic Mail Manual is revised as follows. These changes are incorporated by reference in the Code of Federal Regulations. See CFR part 111.

List of Subjects in 39 CFR Part 111

Administrative practice and procedure, Postal Service.

PART 111—[AMENDED]

1. The authority citation for 39 CFR part 111 continues to read as follows:

Authority: 5 U.S.C. 5552(a); 39 U.S.C. 101, 401, 403, 404, 414, 3001-3011, 3201-3219, 3403-3406, 3621, 3626, 5001.

2. Amend Domestic Mail Manual A040, E200, and M200 as follows:

Domestic Mail Manual (DMM)

A Addressing

A000 Basic Addressing

* * * * *

A040 Alternative Addressing Formats

1.0 SIMPLIFIED ADDRESS

* * * * *

1.2 Use—City Routes, P.O. Boxholders

[Revise 1.2 by deleting the last sentence in the first paragraph and replacing it with the following sentence:]

* * * The following also applies: * * *

* * * * *

1.3 Mail Preparation

[Revise 1.3 as follows:]

All pieces must be prepared in carrier route or 5-digit carrier route or carrier routes containers; 3-digit carrier route or carrier routes containers are not allowed. All flat-size pieces must be prepared in carrier route or 5-digit carrier sacks. All pieces for the same carrier route must be tied in packages of 50, so far as practicable, and each package must bear a facing slip showing desired distribution (e.g., 5-digit ZIP Code and route number). If the pieces are tied in quantities other than 50 each, the actual number must be shown on the facing slip. Delivery statistics for routes may be obtained as described in A930. Pieces in such mailings must also meet the following standards:

a. All pieces must be in the same processing category.

b. Pieces must be marked according to M012.

c. Letter-size pieces must be prepared in trays, and flat-size pieces must be prepared in sacks under M220 or M620, as applicable.

d. If selective distribution is desired, enough pieces must be presented to cover the route or routes selected.

[Delete 1.4. Redesignate 1.5, 1.6, and 1.7 as 1.4, 1.5 and 1.6, respectively.]

* * * * *

4.0 CONGRESSIONAL FRANK

* * * * *

[Redesignate current 4.3 and 4.4 as 4.4 and 4.5, and add new 4.3 to read as follows:]

4.3 Mail Preparation

Mailers must prepare containers of mail using the simplified address format in the manner listed below:

a. Containers of congressional frank mailpieces using the simplified address format must be prepared under A040.

b. PS Tag 11, Congressional Mail, “Postmaster—Open and Distribute” must be securely affixed to each sack or tray of congressional mail to ensure adequate identification of the mail. On trays, the tag must be affixed to the end that bears the tray label.

[Redesignate current 4.3 and 4.4 as 4.4 and 4.5, and add new 4.3 to read as follows:]

* * * * *

E Eligibility

* * * * *

E200 Periodicals

E230 Carrier Route Rates

* * * * *

3.0 WALK-SEQUENCE DISCOUNTS

* * * * *

3.3 Addressing Standards

[Revise 3.3b as follows:]

b. Official matter, whether mailed under congressional frank or by certain government entities for delivery on a city route, may use the appropriate simplified address format described in A040.

* * * * *

M Mail Preparation and Sortation

* * * * *

M200 Periodicals (Nonautomation)

* * * * *

M220 Carrier Route Rates

1.0 BASIC INFORMATION

1.1 General Preparation Standards

[Add new item h to read as follows:]

* * * h. Pieces with a simplified address must meet the corresponding preparation standards in A040 and the eligibility standards in E215.

* * * * *

[Revise the heading of 3.0 to read as follows:]

3.0 PREPARATION (LETTER-SIZE PIECES)

[Designate 3.0 as 3.1 and add new 3.2 to read as follows:]

3.2 Tray Line 2 for Pieces with Simplified Address

For trays that contain letter-size pieces with a simplified address prepared under A040, use “MAN” on Line 2 in place of “BC.”

* * * * *

[An appropriate amendment to 39 CFR part 111 will be published to reflect these changes.]

Stanley F. Mires,
Chief Counsel, Legislative.

[FR Doc. 02-27233 Filed 10-24-02; 8:45 am]

BILLING CODE 7710-12-P